DEPARTMENT OF HOUSING AND URBAN DEVELOPMENT

[Docket No. FR-5281-N-86]

Notice of Submission of Proposed Information Collection to OMB; Emergency Comment Request; Public Housing Assessment System—Management Operations Certification

AGENCY: Office of the Chief Information Officer.

ACTION: Notice of proposed information collection.

SUMMARY: The proposed information collection requirement described below has been submitted to the Office of Management and Budget (OMB) for emergency review and approval, as required by the Paperwork Reduction Act. The Department is soliciting public comments on the subject proposal.

DATES: Comments Due Date: November 23, 2009.

ADDRESSES: Interested persons are invited to submit comments regarding this proposal. Comments must be received within fourteen (14) days from the date of this Notice. Comments should refer to the proposal by name/or OMB approval number and should be sent to: Mr. Ross A. Rutledge, HUD Desk Officer, Office of Management and Budget, New Executive Office Building, Washington, DC 20503; e-mail: Ross_A._Rutledge@omb.eop.gov; fax: (202)395-5806.

FOR FURTHER INFORMATION CONTACT: Lillian Deitzer, Reports Management Officer, QDAM, Department of Housing and Urban Development, 451 Seventh Street, SW., Washington, DC 20410; e-mail: Lillian.L.Deitzer@hud.gov; telephone (202) 402-8048. This is not a toll-free number. Copies of available documents submitted to OMB may be obtained from Ms. Deitzer.

SUPPLEMENTARY INFORMATION: This Notice informs the public that the U.S. Department of Housing and Urban Development (HUD) has submitted to OMB, for emergency processing, a proposed information collection for the Public Housing Assessment System—Management Operations Certification. This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice Also Lists the Following Information

Title of Proposal: Public Housing Assessment System—Management Operations Certification.

Description of Information Collection: This is a reinstatement of a discontinued collection. HUD assesses all of the management operations data required under section 6(j) of the Act in a format comprising six sections or sub-indicators. The PHAS regulation requires that all management operations data be submitted electronically to HUD, in a HUD prescribed format. HUD uses the management data it collects from program participants to evaluate all major areas of a participant's management operations. The management data are evaluated using predetermined weights and factors to compute an indicator score for the management operations of each reporting entity. HUD uses this score with three other PHAS component scores (i.e., physical condition, financial condition and resident services) to produce an overall PHAS score for each PHA. The overall score determines if a PHA's performance is high, standard, or troubled.

OMB Control Number: 2535-0106.

Agency Form Numbers: HUD-50072.

Members of Affected Public: PHAs, State or Local government.

Estimation of the total numbers of hours needed to prepare the information collection including number of respondents, frequency of responses, and hours of responses: The estimated number of respondents is an annual average of 3,174 PHAs that submit management operations certification. The average number for each PHA response varies by size of the PHA, with a total reporting burden of 3,644 hours, or an average of 1.15 hours per respondent.

Authority: The Paperwork Reduction Act of 1995, 44 U.S.C. Chapter 35, as amended.

Dated: November 2, 2009.
Lillian Deitzer,
Departmental Reports Management Officer, Office of the Chief Information Officer.

[FR Doc. E9-26866 Filed 11-6-09; 8:45 am]

BILLING CODE 4210-67-P